JUDICIAL CONFERENCE OF THE UNITED STATES

Meeting of the Judicial Conference Advisory Committee on Rules of Bankruptcy Procedure

AGENCY: Judicial Conference of the United States, Advisory Committee on Rules of Bankruptcy Procedure.

ACTION: Notice of Open Meeting.

SUMMARY: The Advisory Committee on Rules of Bankruptcy Procedure will hold a two-day meeting. The meeting will be open to public observation but not participation.

DATE: September 21-22, 2000.

TIMES: 8:30 a.m. to 5:00 p.m.

ADDRESSES: Arden Conference Center, Arden House Road, Harriman, NY.

FOR FURTHER INFORMATION CONTACT: John K. Rabiej, Chief, Rules Committee Support Office, Administrative Office of the United States Courts, Washington, D.C. 20544, telephone (202) 502-1820.

Dated: February 8, 2000.
John K. Rabiej,
Chief, Rules Committee Support Office.

[FR Doc. 00-3378 Filed 2-11-00; 8:45 am]

BILLING CODE 2210-55-M